DEPARTMENT OF HEALTH AND HUMAN SERVICES

Health Resources and Services Administration

Privacy Act of 1974; Deletion of an Existing System of Records

AGENCY: Health Resources and Services Administration (HRSA), Department of Health and Human Services (HHS).

ACTION: Notice to delete an obsolete system of records.

SUMMARY: In accordance with the requirements of the Privacy Act of 1974, HRSA is deleting an obsolete system of records titled the Information Center (IC) Integrated Clearinghouse System (ICS), HRSA 09-15-0067, established in 2007 at 72 FR 34018 and 72 FR 44846.

DATES: Effective Date: The deletion will be effective upon publication of this Notice.

ADDRESSES: The public should address any comments to: David Bowman, Office of Communications, HRSA, RM 16-70, 5600 Fishers Lane, Rockville, Maryland, and 301-443-3376. Comments received will be available for review at this location, by appointment, during regular business hours, Monday through Friday from 9 a.m.-3 p.m., Eastern Time Zone.

SUPPLEMENTARY INFORMATION: HRSA's Office of Communications operated the IC/ICS system as part of the larger HRSA Information Center, which provided information on HRSA's many programs in response to public inquiries. The purpose of the IC/ICS system of records was to provide for the safekeeping of customers' personally identifiable information captured and retained by the system for the period of 1 year for quality assurance purposes associated with voluntary requests for publications and other information. On September 2, 2014, the HRSA IC closed and ceased operations and all personally-identifiable records were deleted from the system; therefore this system of records is no longer maintained.

Accordingly, the Information Center (IC) Integrated Clearinghouse System (ICS), HRSA 09-15-0067, is hereby deleted as obsolete.

Dated: October 14, 2014.
Mary K. Wakefield,
Administrator.

[FR Doc. 2014-24868 Filed 10-17-14; 8:45 am]

BILLING CODE 4160-15-P